DEPARTMENT OF EDUCATION

List of Correspondence

AGENCY: Office of Special Education and Rehabilitative Services; Department of Education.

ACTION: List of Correspondence from October 1, 2010 through December 31, 2010.

SUMMARY: The Secretary is publishing the following list pursuant to section 607(f) of the Individuals with Disabilities Education Act (IDEA). Under section 607(f) of the IDEA, the Secretary is required, on a quarterly basis, to publish in the Federal Register a list of correspondence from the U.S. Department of Education (Department) received by individuals during the previous quarter that describes the interpretations of the Department of the IDEA or the regulations that implement the IDEA. This list and the letters or other Departmental documents described in this list, with personally identifiable information redacted, as appropriate, can be found at: http://www2.ed.gov/policy/speced/guid/idea/index.html.

FOR FURTHER INFORMATION CONTACT: Jessica Spataro or Mary Louise Dirrigl. Telephone: (202) 245-7468.

If you use a telecommunications device for the deaf (TDD), you can call the Federal Relay Service (FRS), toll free, at 1-800-877-8339.

Individuals with disabilities can obtain a copy of this list and the letters or other Departmental documents described in this list in an accessible format (e.g., braille, large print, audiotape, or computer diskette) by contacting Jessica Spataro or Mary Louise Dirrigl at (202) 245-7468.

SUPPLEMENTARY INFORMATION: The following list identifies correspondence from the Department issued from October 1, 2010 through December 31, 2010. Included on the list are those letters that contain interpretations of the requirements of the IDEA and its implementing regulations, as well as letters and other documents that the Department believes will assist the public in understanding the requirements of the law and its regulations. The date of and topic addressed by each letter are identified, and summary information is also provided, as appropriate. To protect the privacy interests of the individual or individuals involved, personally identifiable information has been redacted, as appropriate.

Part B—Assistance for Education of All Children With Disabilities

Section 614—Evaluations, Eligibility Determinations, Individualized Education Programs, And Educational Placements

Topic Addressed: Individualized Education Programs.

○ Letter dated December 16, 2010 to individual (personally identifiable information redacted), responding to concerns about the use of seclusion and restraint with students with disabilities in schools.

Section 615—Procedural Safeguards

Topic Addressed: Impartial Due Process Hearings.

○ Letter dated October 4, 2010 to School Law Center, LLC attorneys Amy Goetz and Atlee Reilly, clarifying that the IDEA does not prevent a parent whose child changes school districts from filing a timely due process complaint against a local educational agency (LEA) where the child previously attended school.

○ Letter dated November 10, 2010 to Texas Education Agency General Counsel David Anderson, clarifying that it would be inconsistent with the IDEA for a State to adopt a regulation suspending the timeline for convening a resolution session when the State receives a complaint shortly before or during the LEA's winter break.

Topic Addressed: Finality Of Due Process Hearing Decisions.

○ Letter dated October 20, 2010 to District of Columbia Acting State Superintendent of Education Beth H. Colleye, regarding requests for reconsideration of final due process hearing decisions.

○ Letter dated October 28, 2010 to Maryland attorney Matthew Scott Weiner, regarding requests for reconsideration of final due process hearing decisions.

Part C—Infants and Toddlers With Disabilities

Section 639—Procedural Safeguards

Topic Addressed: Access To Records.

○ Letter dated October 13, 2010 to Florida Department of Health Early Steps Program Part C Coordinator Lynne Marie Price, regarding whether a State must provide parents with a copy of a test protocol that contains personally identifiable information about their child as part of their child's Part C IDEA records.

Other Letters That Do Not Interpret Idea But May Be of Interest to Readers

Topic Addressed: Harassment And Bullying.

○ Dear Colleague Letter dated October 26, 2010 from Office for Civil Rights Assistant Secretary Russlynn Ali, regarding bullying and harassment, including disability harassment.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

(Catalog of Federal Domestic Assistance Number 84.027, Assistance to States for Education of Children with Disabilities)

Dated: June 21, 2011.
Alexa Posny,
Assistant Secretary for Special Education and Rehabilitative Services.

[FR Doc. 2011-15922 Filed 6-23-11; 8:45 am]

BILLING CODE 4000-01-P